DEPARTMENT OF LABOR

Employment and Training Administration

[TA-W-53,917]

Kincaid Furniture Company, Inc., Hudson, North Carolina; Notice of Termination of Investigation

Pursuant to section 221 of the Trade Act of 1974, as amended, an investigation was initiated on December 31, 2003, in response to a petition filed on behalf of workers at Kincaid Furniture Company, Inc., Hudson, North Carolina.

The petitioning group of workers is covered by an active certification for Kincaid Furniture Company, Inc., Plant 8 currently known as Plant 18, Lenoir, North Carolina (TA-W-50,735, as amended).

Consequently, further investigation in this case would serve no purpose, and the investigation has been terminated.

Signed in Washington, DC, this 17th day of February, 2004.
Linda G. Poole,
Certifying Officer, Division of Trade Adjustment Assistance.

[FR Doc. E4-471 Filed 3-5-04; 8:45 am]

BILLING CODE 4510-13-P